DEPARTMENT OF ENERGY

Federal Energy Regulatory Commission

[Docket No. AD12-17-000; RM12-10-000; ER12-502-001; ER12-502-002; ER12-1177-001; ER12-1855-000]

Review of Small Generator Interconnection Agreements and Procedures; Solar Energy Industries Association; California Independent System Operator Corporation; PJM Interconnection, LLC; California Independent System Operator Corporation; Notice of Technical Conference

Take notice that Federal Energy Regulatory Commission (Commission) staff will convene a technical conference in the above-referenced proceedings on Tuesday, July 17, 2012, from 9:30 a.m. to 4:00 p.m. (EDT) in the Commission Meeting Room at the offices of the Federal Energy Regulatory Commission, 888 First Street NE., Washington, DC 20426. Members of the Commission may attend the conference, which will also be open for the public to attend. Advance registration is not required, but is encouraged. We will provide nametags for those who register on or before July 10, 2012. Participants may register at the following Web page: https://www.ferc.gov/whats-new/registration/small-generator-7-17-12-form.asp.

The purpose of this conference is to discuss issues related to a petition for rulemaking recently submitted by the Solar Energy Industries Association (Docket No. RM12-10-000).

This conference is not intended to address the substance of any particular case pending before the Commission. However, discussions at the conference may address matters at issue in the following Commission proceedings that are either pending or within their rehearing period: California Independent System Operator Corporation, Docket No. ER12-502-001 and Docket No. ER12-502-002; PJM Interconnection, LLC, Docket No. ER12-1177-001; California Independent System Operator Corporation, Docket No. ER12-1855-000.

Those interested in speaking at the conference should notify the Commission by close of business June 22, 2012, by completing an online form identifying the topic(s) that they wish to address: https://www.ferc.gov/whats-new/registration/small-generator-7-17-12-speaker-form.asp. Due to time constraints, we may not be able to accommodate all those interested in speaking. The Commission will issue a subsequent notice that will provide the detailed agenda for the conference, including panel speakers, and a comment date for filing post-conference comments.

The conference will be transcribed and available by webcast. Transcripts will be available immediately for a fee from Ace Reporting Company (202-347-3700 or 1-800-336-6646). A free webcast of the technical conference in this proceeding is also available. Anyone with Internet access interested in viewing this conference can do so by navigating to the FERC Calendar of Events at www.ferc.gov and locating this event in the Calendar. The event will contain a link to its webcast. The Capitol Connection provides technical support for the webcasts and offers the option of listening to the conferences via phone-bridge for a fee. If you have any questions, visit www.CapitolConnection.org or call (703) 993-3100.

FERC conferences are accessible under section 508 of the Rehabilitation Act of 1973. For accessibility accommodations please send an email to accessibility@ferc.gov or call toll free 1-866-208-3372 (voice) or 202-208-8659 (TTY), or send a fax to 202-208-2106 with the required accommodations.

For information related to the agenda, please contact Leslie Kerr at leslie.kerr@ferc.gov or (202) 502-8540. For information related to logistics, please contact Sarah McKinley at sarah.mckinley@ferc.gov or (202) 502-8368.

Dated: June 13, 2012.
Kimberly D. Bose,
Secretary.

[FR Doc. 2012-14885 Filed 6-18-12; 8:45 am]

BILLING CODE 6717-01-P